DEPARTMENT OF AGRICULTURE

Submission for OMB Review; Comment Request

October 19, 2010.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Clementines, Mandarins, and Tangerines From Chile.

OMB Control Number: 0579-0242.

Summary of Collection: Under the Plant Protection Act (7 U.S.C. 7701-7772), the Secretary of Agriculture is authorized to carry out operations or measures to detect, eradicate, suppress, control, prevent, or retard the spread of plant pests new to the United States or not known to be widely distributed throughout the United States. The regulations in “Subpart—Fruits and Vegetables” (7 CFR 319.56 through 319.56-8) prohibit or restrict the importation of fruits and vegetables into the United States from certain parts of the world, to prevent the introduction and dissemination of plant pests, including fruit flies. The Animal and Plant Health Inspection Service (APHIS) amended the fruits and vegetables regulations to allow the importation, under certain conditions, of clementines, mandarins, and tangerines from Chile into the United States.

Need and Use of the Information: APHIS requires that some plants or plant products are accompanied by a phytosanitary inspection certificate that is completed by plant health officials in the originating or transiting country. APHIS will use the information on this certificate to determine the pest condition of the shipment at the time of inspection in the foreign country. This information is used as a guide to the intensity of the inspection that APHIS must conduct when the shipment arrives. Without the information, all shipments would need to be inspected very thoroughly, thereby requiring considerably more time; this would slow the clearance of international shipments.

Description of Respondents: Business or other for-profit; Federal Government.

Number of Respondents: 44.

Frequency of Responses: Reporting: On occasion.

Total Burden Hours: 162.

Animal and Plant Health Inspection Service

Title: Animal Disease Traceability: Tribal Nations Using Systems for Location Notification.

OMB Control Number: 0579-0327.

Summary of Collection: The Animal Health Protection Act of 2002 (7 U.S.C. 8301-8317) is the primary Federal law governing the protection of animal health. The law gives the Secretary of Agriculture broad authority to detect, control, or eradicate pests or diseases of livestock or poultry. The Animal and Plant Health Inspection Service's (APHIS) Veterinary Services (VS) safeguards U.S. animal health through a variety of activities including disease control. One important part of disease control is animal disease traceability. Animal disease traceability means being able to document the movement history of an animal throughout its life. To help trace animals, APHIS has made several systems available to States and Tribes for managing the issuance of unique location identification numbers including the Standardized Premises Registration System and a Tribal Premises Registration System. States and Tribes can elect whether to use one of the APHIS's systems. Tribes can designate which premises registration system they would like to use, if any, by completing VS 1-63, Tribal Location Identification System Implementation Request.

Need and Use of the Information: APHIS will use the information provided on VS 1-63 to contact the respondents and help them use the premises registration system they selected. The information also helps ensure that when multiple parties claim to represent Tribes in managing location identification information, USDA only deals with those entities the Tribe has officially recognized. If this information was not collected, APHIS' ability to address traceability needs specified to Tribes would be significantly hampered.

Description of Respondents: State, Local or Tribal Government.

Number of Respondents: 25.

Frequency of Responses: Recordkeeping; Reporting: On occasion.

Total Burden Hours: 31.

Ruth Brown,
Departmental Information Collection Clearance Officer.

[FR Doc. 2010-26812 Filed 10-22-10; 8:45 am]

BILLING CODE 3410-34-P